DEPARTMENT OF ENERGY

Federal Energy Regulatory Commission

[Docket No. ER99-967-001, et al.]

Wisvest-Connecticut, L.L.C., et al.; Electric Rate and Corporate Regulation Filings

May 9, 2002.

The following filings have been made with the Commission. The filings are listed in ascending order within each docket classification.

1. Wisvest-Connecticut, L.L.C.

[Docket No. ER99-967-001]

Take notice that on May 3, 2002, Wisvest-Connecticut, L.L.C. (Wisvest) filed a triennial update to its market rate tariff of general applicability under which it sells capacity, energy and ancillary services at market-based rates.

Comment Date: May 24, 2002.

2. Otter Tail Power Company

[Docket Nos. ER02-912-003]

Take notice that on May 3, 2002, Otter Tail Power Company tendered for filing with the Federal Energy Regulatory Commission (Commission) the compliance filing required by the Commission's April 5, 2002 order in Docket No. ER02-912-000. Copies of this filing were served on all parties included on the Commission's official service list established in this proceeding.

Comment Date: May 24, 2002.

3. MidAmerican Energy Company

[Docket No. ER02-1681-000]

Take notice that on May 3, 2002, MidAmerican Energy Company (MidAmerican) filed an amendment to its April 30, 2002 filing in the above-captioned proceeding.

Comment Date: May 24, 2002.

4. Pacific Gas and Electric Company

[Docket No. ER02-1704-000]

Take notice that on May 3, 2002, Pacific Gas and Electric Company (PG&E) tendered for filing Amendment No. 7 to PG&E Rate Schedule FERC No. 136, PG&E-Sacramento Municipal Utility District (SMUD) Interconnection Agreement. SMUD requests that the agreement be made effective before June 1, 2002.

Copies of this filing were served upon SMUD, the California Independent System Operator Corporation and the California Public Utilities Commission.

Comment Date: May 24, 2002.

5. Southwest Power Pool, Inc.

[Docket No. ER02-1705-000]

Take notice that on May 3, 2002, Southwest Power Pool, Inc. (SPP) submitted for filing an unexecuted interconnection agreement with Duke Energy Leavenworth (Duke) under the SPP Open Access Transmission Tariff. SPP requests an effective date of April 3, 2002 for this interconnection agreement.

A copy of the filing was served on representatives of Duke and other affected parties.

Comment Date: May 24, 2002.

6. PJM Interconnection, L.L.C.

[Docket No. ER02-1706-000]

Take notice that on May 3, 2002, PJM Interconnection, L.L.C. (PJM), filed amendments to the PJM Open Access Transmission Tariff and the Amended and Restated PJM Operating Agreement to amend the rules under which PJM accepts for monitoring and dispatch control local lower voltage transmission facilities not currently under PJM's monitoring responsibility and dispatch control and to provide a transition process for local lower voltage transmission facilities already under PJM monitoring and dispatch control that do not meet PJM reliability planning criteria set forth in the PJM manuals to become compliant with such criteria. Copies of this filing were served upon all PJM members and each state electric utility regulatory commission in the PJM region. PJM requests an effective date of June 1, 2002 for the amendments.

Comment Date: May 24, 2002.

7. Southwest Power Pool, Inc.

[Docket No. ER02-1707-000]

Take notice that on May 3, 2002, Southwest Power Pool, Inc. (SPP) submitted for filing a revised service agreement for Firm Point-to-Point Transmission Service with Southwest Public Service Company (Transmission Customer). SPP seeks an effective date of March 1, 2002 for this service agreement.

The Transmission Customer was served with a copy of this filing.

Comment Date: May 24, 2002.

8. Maine Public Service Company

[Docket No. ER02-1708-000]

Take notice that on May 3, 2002, Maine Public Service Company (Maine Public) submitted for filing an executed Service Agreement for Network Integration Transmission Service under Maine Public's open access transmission tariff with Houlton Water Company.

Comment Date: May 24, 2002.

9. Southwest Power Pool, Inc.

[Docket No. ER02-1709-000]

Take notice that on May 2, 2002, Southwest Power Pool, Inc. (SPP) submitted for filing two executed service agreements for Firm Point-to-Point Transmission Service with Southwest Public Service Company d.b.a. Xcel Energy (Transmission Customer). SPP seeks an effective date of January 1, 2003 for these service agreements.

The Transmission Customer was served with a copy of this filing.

Comment Date: May 23, 2002.

10. Southwest Power Pool, Inc.

[Docket No. ER02-1710-000]

Take notice that on May 2, 2002, Southwest Power Pool, Inc. (SPP) submitted for filing an executed service agreement for Firm Point-to-Point Transmission Service with Texas New Mexico Power Company (Transmission Customer). SPP seeks an effective date of April 15, 2002 for this service agreement.

The Transmission Customer was served with a copy of this filing.

Comment Date: May 23, 2002.

11. Entergy Services, Inc.

[Docket No. ER02-1711-000]

Take notice that on May 2, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and J. Aron & Company.

Comment Date: May 23, 2002.

12. Somerset Power LLC

[Docket No. ER02-1712-000]

Take notice that on May 3, 2002, Somerset Power LLC filed with the Federal Energy Regulatory Commission (Commission ) pursuant to section 205 of the Federal Power Act, Part 35 of the Commission's regulations, and Commission Order No. 614, a request that the Commission (1) accept for filing a revised market-based rate tariff; (2) waive any obligation to submit a red-lined version of the currently effective tariff; and (3) grant any waivers necessary to make the revised tariff sheets effective as soon as possible, but no later than 60 days from the date of this filing. Somerset's proposed tariff revisions merely seek to properly designate, update and conform the tariff to a format like those that the Commission has approved for Somerset's affiliates.

Comment Date: May 24, 2002.

13. South Carolina Electric & Gas Company

[Docket No. ER02-1713-000]

Take notice that on May 3, 2002, South Carolina Electric & Gas Company (SCE&G) submitted a firm point-to-point transmission service agreement and a non-firm transmission service agreement (the Agreements) establishing Progress Ventures, Inc. (Progress Ventures) as a customer under the terms of SCE&G's Open Access Transmission Tariff.

SCE&G requests an effective date of April 4, 2002 for the Agreements. Copies of this filing were served upon Progress Ventures and the South Carolina Public Service Commission.

Comment Date: May 24, 2002.

14. LTV Steel Mining Company

[Docket No. ER02-1714-000]

Take notice that on May 3, 2002, LTV Steel Mining Company (LTVSMC) tendered for filing a notice of cancellation of its Rate Schedule FERC No. 1 and Rate Schedule FERC No. 2 under which it provided service to Minnesota Power (MP) and MP's wholly-owned indirect subsidiary, Rainy River Energy Corporation—Taconite Harbor (RRTH). The rate schedules being cancelled authorized LTVSMC to interconnect with, sell power at market-based rates to and provide temporary interconnection and transmission service to MP or its affiliate RRTH. LTVSMC requests that its notice of cancellation be accepted effective on or about May 1, 2002.

Comment Date: May 24, 2002.

15. American Electric Power

[Docket No. ER02-1715-000]

Take notice that American Electric Power Service Corporation, on May 2, 2002, tendered for filing with the Commission a Facilities, Operation and Maintenance Agreement (Facility Agreement) dated September 1, 2001, between Ohio Power Company (d/b/a AEP), South Central Power Company (hereinafter called SCP) and Buckeye Power, Inc. (hereinafter called Buckeye).

The Facility Agreement provides for the establishment of a new delivery point, pursuant to the provisions of the Power Delivery Agreement between Ohio Power, Buckeye, The Cincinnati Gas & Electric Company, The Dayton Power and Light Company, Monongahela Power Company, Columbus Southern Power Company and Toledo Edison Company, dated January 1, 1968. AEP requests an effective date of September 1, 2001 for the Facility Agreement.

EP states that copies of its filing were served upon SCP, Buckeye and the Public Utilities Commission of Ohio.

Comment Date: May 23, 2002.

16. Sierra Pacific Power Company, Nevada Power Company

[Docket No. ER02-1716-000]

Take notice that on May 2, 2002 Sierra Pacific Power Company and Nevada Power Company (jointly Operating Companies) tendered for filing a Service Agreements (Service Agreements) with Allegheny Energy Supply for Short-Term Firm Point-to-Point Transmission Service and UBS AG, London Branch for Non-Firm and Short-Term Firm Point-to-Point Transmission Service under Sierra Pacific Resources Operating Companies FERC Electric Tariff, First Revised Volume No. 1, Open Access Transmission Tariff (Tariff).

The Operating Companies are filing the executed Service Agreement with the Commission in compliance with Sections 13.4 and 14.4 of the Tariff and applicable Commission regulations. The Operating Companies (Attachment E) to the Tariff, which is an updated list of current subscribers. The Operating Companies request waiver of the Commission's notice requirements to permit an effective date of May 3, 2002 for Attachment E, and to allow the Service Agreement to become effective according to their terms.

Copies of this filing were served upon the Public Utilities Commission of Nevada, the Public Utilities Commission of California and all interested parties.

Comment Date: May 23, 2002.

17. Xcel Energy Services, Inc.

[Docket No. ER02-1717-000]

Take notice that on May 2, 2002, Xcel Energy Services, Inc. (XES), on behalf of Northern States Power Company and Northern States Power Company (Wisconsin) (collectively, NSP), submitted for filing a Form of Service Agreement with West Texas Municipal Power Agency (WTMPA), which is in accordance with NSP's Rate Schedule for Market-Based Power Sales (NSP Companies FERC Electric Tariff, Original Volume No. 6).

XES requests that this agreement become effective on April 23, 2002.

Comment Date: May 23, 2002.

18. Xcel Energy Services, Inc.

[Docket No. ER02-1718-000]

Take notice that on May 2, 2002, Xcel Energy Services, Inc. (XES), on behalf of Public Service Company of Colorado (Public Service), submitted for filing a Master Power Purchase and Sale Agreement between Public Service and Desert Power, L.P. (Desert Power), which is in accordance with Public Service's Rate Schedule for Market-Based Power Sales (Public Service FERC Electric Tariff, First Revised Volume No. 6).

XES requests that this agreement become effective on April 15, 2001.

Comment Date: May 23, 2002.

19. California Independent System Operator Corporation

[Docket No. ER02-1719-000]

Take notice that on May 3, 2002, the California Independent System Operator Corporation (ISO) tendered for filing with the Federal Energy Regulatory Commission (Commission) a Scheduling Coordinator Agreement between the ISO and UBS AG, London Branch for acceptance by the Commission. The ISO is requesting that the Scheduling Coordinator Agreement be made effective as of April 24, 2002.

The ISO states that this filing has been served on UBS AG, London Branch and the California Public Utilities Commission.

Comment Date: May 24, 2002.

20. California Independent System Operator Corporation

[Docket No. ER02-1720-000]

Take notice that on May 3, 2002, the California Independent System Operator Corporation (ISO) tendered for filing a Meter Service Agreement for Scheduling Coordinators between the ISO and UBS AG, London Branch for acceptance by the Federal Energy Regulatory Commission. The ISO is requesting that the Meter Service Agreement be made effective as of April 24, 2002.

The ISO states that this filing has been served on UBS AG, London Branch and the California Public Utilities Commission.

Comment Date: May 24, 2002.

21. California Independent System Operator Corporation

[Docket No. ER02-1721-000]

Take notice that on May 3, 2002, the California Independent System Operator Corporation (ISO) tendered for filing a Participating Generator Agreement between the ISO and CalPeak Power-Vaca Dixon LLC for acceptance by the Federal Energy Regulatory Commission.

The ISO states that this filing has been served on CalPeak Power-Vaca Dixon LLC and the California Public Utilities Commission.

The ISO is requesting that the Participating Generator Agreement be made effective April 24, 2002.

Comment Date: May 24, 2002.

22. California Independent System Operator Corporation

[Docket No. ER02-1722-000]

Take notice that on May 3, 2002, the California Independent System Operator Corporation (ISO) tendered for filing a Meter Service Agreement for ISO Metered Entities between the ISO and CalPeak Power-Vaca Dixon LLC for acceptance by the Federal Energy Regulatory Commission. The ISO is requesting that the Meter Service Agreement for ISO Metered Entities be made effective April 24, 2002.

The ISO states that this filing has been served on CalPeak Power-Vaca Dixon LLC and the California Public Utilities Commission.

Comment Date: May 24, 2002.

23. California Independent System Operator Corporation

[Docket No. ER02-1723-000]

Take notice that on May 3, 2002, the California Independent System Operator Corporation (ISO) tendered for filing a Meter Service Agreement for ISO Metered Entities between the ISO and CalPeak Power-El Cajon LLC for acceptance by the Federal Energy Regulatory Commission. The ISO is requesting that the Meter Service Agreement for ISO Metered Entities be made effective April 24, 2002.

The ISO states that this filing has been served on CalPeak Power-El Cajon LLC and the California Public Utilities Commission.

Comment Date: May 24, 2002.

24. California Independent System Operator Corporation

[Docket No. ER02-1724-000]

Take notice that on May 3, 2002, the California Independent System Operator Corporation (ISO) tendered for filing a Participating Generator Agreement between the ISO and CalPeak Power-El Cajon LLC for acceptance by the Commission. The ISO is requesting that the Participating Generator Agreement be made effective April 24, 2002.

The ISO states that this filing has been served on CalPeak Power-El Cajon LLC and the California Public Utilities Commission.

Comment Date: May 24, 2002.

25. David Sholk

[Docket No. ER02-1725-000]

Take notice that on April 26, 2002, David Sholk tendered for filing with the Federal Energy Regulatory Commission (Commission) a Petition for Blanket Authority to Purchase and Resell Electricity at Market-Based Rates.

Comment Date: May 24, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-12104 Filed 5-14-02; 8:45 am]

BILLING CODE 6717-01-P